COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were previously furnished by nonprofit agencies employing persons who are blind or have other severe disabilities.

DATES: Comments must be received on or before September 11, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): 2540-01-071-2051—Cover, Cushion Assembly

Mandatory Source(s) of Supply: Pioneer Vocational/Industrial Services, Inc., Danville, KY

Contracting Activity: Defense Logistics Agency Land and Maritime

NSN(s)—Product Name(s):

7530-01-071-9792—Paper, Bond, Dual Purpose, Opaque Buff, 8.5″ x 11″

7530-01-148-1766—Paper, Xerographic, Dual Purpose, Buff, 8.5″ x 11″

Mandatory Source(s) of Supply: Louisiana Association for the Blind, Shreveport, LA

Contracting Activity: General Services Administration, New York, NY

NSN(s)—Product Name(s): 6540-01-131-7919—Case, Spectacles

Mandatory Source(s) of Supply: Dallas Lighthouse for the Blind, Inc., Dallas, TX

Contracting Activity: Defense Logistics Agency Troop Support

Services

Service Types:

Administrative Service

Laundry Service

Food Service Attendant Service

Mandatory for: Department of Veterans Affairs, James A. Quillen VA Medical Center, Mountain Home, TN

Mandatory Source(s) of Supply: Dawn of Hope, Inc., Johnson City, TN

Contracting Activity: Department of Veterans Affairs

Barry S. Lineback,
Director, Business Operations.

[FR Doc. 2016-19235 Filed 8-11-16; 8:45 am]

BILLING CODE 6353-01-P